DEPARTMENT OF HEALTH AND HUMAN SERVICES

Health Resources and Services Administration

HRSA AIDS Advisory Committee; Notice of Meeting

In accordance with section 10(a)(2) of the Federal Advisory Committee Act (Public Law 92-463), announcement is made of the following National Advisory body scheduled to meet during the month of May 2002.

Name: HRSA AIDS Advisory Committee (HAAC).

Date and Time: May 30, 2002; 8:30 a.m.-5 p.m.; May 31, 2002; 8:30 a.m.-3:30 p.m.

Place: Capital Hilton, 1001 16th Street, NW., Washington, DC 20036, Telephone: (202) 393-1000.

The meeting is open to the public.

Agenda: Agenda items for the meeting include a discussion of HIV prevention and care linkages with the Centers for Disease Control and Prevention's Advisory Committee on HIV and STD Prevention, program updates, and coordination and collaboration with other Federal agencies including the Substance Abuse and Mental Health Services Administration (SAMHSA).

Anyone requiring further information should contact Shelley Gordon, HIV/AIDS Bureau, Parklawn Building, Room 16C-26, 5600 Fishers Lane, Rockville, Maryland 20857, telephone (301) 443-9684.

Dated: April 5, 2002.
Jane M. Harrison,
Director, Division of Policy Review and Coordination.

[FR Doc. 02-8842 Filed 4-11-02; 8:45 am]

BILLING CODE 4165-15-P